COMMISSION ON CIVIL RIGHTS

Sunshine Act Notice

AGENCY: United States Commission on Civil Rights.

ACTION: Notice of meeting cancellation.

SUMMARY: On October 12, 2010 (75 FR 63144-63145), the U.S. Commission on Civil Rights announced a business meeting to be held on Friday, October 22, 2010 at the Commission's headquarters. On Monday, October 18, 2010, the meeting was cancelled. The decision to cancel the meeting was too close in time to the date and time of the meeting for the publication of a cancellation notice to appear in advance of the scheduled meeting date. The details of the cancelled meeting are:

Date and Time: Friday, October 22, 2010; 9:30 a.m. EDT.

Place: 624 Ninth Street, NW., Room 540, Washington, DC 20425.

Meeting Agenda

This meeting is open to the public.

I. Approval of Agenda.

II. Program Planning.

• Approval of New Black Panther Party Enforcement Report.

• Consideration of Findings and Recommendations for Briefing Report on English-Only in the Workplace.

• Consideration of Policy on Commissioner Statements and Rebuttals.

• Update on Sex Discrimination in Liberal Arts College Admissions—Some of the discussion of this agenda item may be held in closed session.

• Update on Clearinghouse Project.

III. State Advisory Committee Issues.

• Kentucky SAC.

• Maryland SAC.

• Vermont SAC.

IV. Staff Director's Report.

V. Announcements.

VI. Approval of Minutes of October 8 Meeting.

VII. Adjourn.

Contact Person for Further Information: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: October 19, 2010.
David Blackwood,
General Counsel.

[FR Doc. 2010-26751 Filed 10-19-10; 4:15 pm]

BILLING CODE 6335-01-P